DEPARTMENT OF HEALTH AND HUMAN SERVICES

Public Health Service

42 CFR Part 5

Designation of Health Professional(s) Shortage Areas

CFR Correction

In Title 42 of the Code of Federal Regulations, Parts 1 to 399, revised as of October 1, 2012, on page 80, in Appendix C to Part 5, in Part III, paragraph c.1., following the phrase “as having a mental health professional(s)”, insert the word “shortage” before the comma.

[FR Doc. 2013-17858 Filed 7-23-13; 8:45 am]

BILLING CODE 1505-01-D